DEPARTMENT OF THE TREASURY

United States Mint

Price for the 2012 American Eagle Silver Proof Coin

AGENCY: United States Mint, Department of the Treasury.

ACTION: Notice.

SUMMARY: The United States Mint is lowering the price of the 2012 American Eagle Silver Proof Coin. The product will now be offered for sale at a price of $54.95.

FOR FURTHER INFORMATION CONTACT: B. B. Craig, Associate Director for Sales and Marketing; United States Mint; 801 9th Street NW; Washington, DC 20220; or call 202-354-7500.

Authority: 31 U.S.C. 5111, 5112 & 9701.

Dated: July 17, 2012.
Richard A. Peterson,
Deputy Director, United States Mint.

[FR Doc. 2012-18061 Filed 7-24-12; 8:45 am]

BILLING CODE 4810-37-P